DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Kristin E. Fontenot,
Assistant Administrator, Risk Analysis, Planning & Information Directorate Federal Emergency Management Agency, Department of Homeland Security.

State and county | Location and case No. | Chief executive officer of community | Community map repository | Date of modification | Community No.
Arkansas:
Jackson (FEMA Docket No.: B-2467). | City of Campbell Station (23-06-2514P). | The Honorable John Reed, Mayor, City of Campbell Station, 5005 Keeter Circle, Tuckerman, AR 72473. | City Hall, 5005 Keeter Circle, Tuckerman, AR 72473. | Jan. 17, 2025 | 050099
Jackson (FEMA Docket No.: B-2467). | City of Diaz (23-06-2514P). | The Honorable Perry Stegall, Mayor, City of Diaz, P.O. Box 136, Diaz, AR 72043. | City Hall, P.O. Box 136, Diaz, AR 72043. | Jan. 17, 2025 | 050100
Jackson (FEMA Docket No.: B-2467). | City of Newport (23-06-2514P). | The Honorable Derrick Ratliffe, Mayor, City of Newport, 615 3rd Street, Newport, AR 72112. | Economic Development Commission, 615 3rd Street, Newport, AR 72112. | Jan. 17, 2025 | 050103
Jackson (FEMA Docket No.: B-2467). | Town of Jacksonport (23-06-2514P). | The Honorable Marcus Dodson, Mayor, Town of Jacksonport, P.O. Box 116, Jacksonport, AR 72075. | Town Hall, P.O. Box 116, Jacksonport, AR 72075. | Jan. 17, 2025 | 050102
Jackson (FEMA Docket No.: B-2467). | Unincorporated areas of Jackson County (23-06-2514P). | The Honorable Jeff Phillips, Jackson County Judge, 208 Main Street, Newport, AR 72112. | Jackson County Courthouse, 208 Main Street, Newport, AR 72112. | Jan. 17, 2025 | 050096
Colorado:
El Paso (FEMA Docket No.: B-2472). | City of Manitou Springs (24-08-0006P) | The Honorable John Graham, Mayor, City of Manitou Springs, 606 Manitou Avenue, Manitou Springs, CO 80829. | Pikes Peak Regional Building Department, Floodplain Management Office, 2880 International Circle, Colorado Springs, CO 80910. | Jan. 21, 2025 | 080063
Larimer (FEMA Docket No.: B-2472). | Town of Wellington (24-08-0267P). | The Honorable Calar Chaussee, Mayor, Town of Wellington, P.O. Box 127, Wellington, CO 80549. | Town Hall, 3735 Cleveland Street, Wellington, CO 80549. | Jan. 29, 2025 | 080104
San Miguel (FEMA Docket No.: B-2479). | Town of Telluride (22-08-0762P). | The Honorable Teddy Errico, Mayor, Town of Telluride, P.O. Box 397, Telluride, CO 81435. | Town Hall, 113 West Columbia, Telluride, CO 81435. | Jan. 27, 2025 | 080168
San Miguel (FEMA Docket No.: B-2479). | Unincorporated areas of San Miguel County (22-08-0762P). | Lance Waring, Chair, San Miguel County Board of Commissioners, P.O Box 1170, Telluride, CO 81435. | San Miguel County Planning Department, 333 West Colorado, Mira Monte Building, 3rd Floor, Telluride, CO 81435. | Jan. 27, 2025 | 080166
Connecticut: Fairfield (FEMA Docket No.: B-2467). | Town of Greenwich (24-01-0503P). | The Honorable Fred Camillo, First Selectman, Town of Greenwich Board of Selectmen, 101 Field Point Road, Greenwich, CT 06830. | Planning and Development Department, 101 Field Point Road, Greenwich, CT 06830. | Jan. 16, 2025 | 090008
Florida:
Collier (FEMA Docket No.: B-2467). | Unincorporated areas of Collier County (24-04-6932X). | Chris Hall, Chair, Collier County Board of Commissioners, 3299 Tamiami Trail East, Suite 303, Naples, FL 34112. | Collier County Growth Management Community Development Department, 2800 North Horseshoe Drive, Naples, FL 34104. | Jan. 21, 2025 | 120067
Monroe (FEMA Docket No.: B-2467). | Unincorporated areas of Monroe County (24-04-3770P). | The Honorable Holly Merrill Raschein, Mayor, Monroe County Board of Commissioners, 102050 Overseas Highway, Suite 234, Key Largo, FL 33037. | Monroe County Building Department, 2798 Overseas Highway, Suite 300, Marathon, FL 33050. | Jan. 17, 2025 | 125129
Polk (FEMA Docket No.: B-2472). | Unincorporated areas of Polk County (23-04-4569P). | Bill Beasley, Polk County Manager, 330 West Church Street, Bartow, FL 33830. | Polk County Land Development Division, 330 West Church Street, Bartow, FL 33830. | Jan. 23, 2025 | 120261
Illinois: DuPage (FEMA Docket No.: B-2472). | Unincorporated areas of DuPage County (23-05-1793P). | Deborah Conroy, Chair, DuPage County Board, 421 North County Farm Road, Wheaton, IL 60187. | DuPage County Administration Building, Stormwater Management, 421 North County Farm Road, Wheaton, IL 60187. | Jan. 27, 2025 | 170197
Kansas:
Johnson (FEMA Docket No.: B-2467). | City of Lenexa (23-07-0423P). | The Honorable Julie Sayers, Mayor, City of Lenexa, 17101 West 87th Street Parkway, Lenexa, KS 66219. | City Hall, 17101 West 87th Street Parkway, Lenexa, KS 66219. | Jan. 22, 2025 | 200168
Johnson (FEMA Docket No.: B-2467). | City of Overland Park (23-07-0423P). | The Honorable Curt Skoog, Mayor, City of Overland Park, 8500 Santa Fe Drive, Overland Park, KS 66212. | City Hall, 8500 Santa Fe Drive, Overland Park, KS 66212. | Jan. 22, 2025 | 200174
Johnson (FEMA Docket No.: B-2467). | City of Shawnee (23-07-0423P). | The Honorable Michael Sandifer, Mayor, City of Shawnee, 11110 Johnson Drive, Shawnee, KS 66203. | City Hall, 11110 Johnson Drive, Shawnee, KS 66203. | Jan. 22, 2025 | 200177
Mississippi: Harrison (FEMA Docket No.: B-2467). | City of Pass Christian (23-04-5645P). | The Honorable Jimmy Rafferty, Mayor, City of Pass Christian, 200 West Scenic Drive, Pass Christian, MS 39571. | City Hall, 200 West Scenic Drive, Pass Christian, MS 39571. | Jan. 23, 2025 | 285261
North Carolina:
Alexander (FEMA Docket No.: B-2472). | Unincorporated areas of Alexander County (24-04-1106P). | Marty Pennel, Chair, Alexander County Board of Commissioners, 621 Liledoun Road, Taylorsville, NC 28681. | Alexander County Planning and Development Department, 151 West Main Avenue, Suite 7, Taylorsville, NC 28681. | Jan. 23, 2025 | 370398
Avery (FEMA Docket No.: B-2472). | Unincorporated areas of Avery County (23-04-6256P). | Tim Phillips, Chair, Avery County Board of Commissioners, P.O. Box 640, Newland, NC 28657. | Avery County Planning Department, 200 Old Montezuma Road, Newland, NC 28657. | Jan. 9, 2025 | 370010
Caldwell (FEMA Docket No.: B-2472). | Unincorporated areas of Caldwell County (24-04-2160P). | Randy Church, Chair, Caldwell County Board of Commissioners, P.O. Box 220, Lenoir, NC 28645. | Caldwell County Planning and Development Department, 2345 Morganton Boulevard Southwest, Lenoir, NC 28645. | Jan. 22, 2025 | 370039
Iredell (FEMA Docket No.: B-2472). | Town of Mooresville (24-04-1233P) | The Honorable Chris Carney, Mayor, Town of Mooresville, 413 North Main Street, Mooresville, NC 28815. | Planning Department, 413 North Main Street, Mooresville, NC 28815 | Jan. 27, 2025 | 370314
Mecklenburg (FEMA Docket No.: B-2472). | City of Charlotte (22-04-2871P). | The Honorable Vi Alexander Lyles, Mayor, City of Charlotte, 600 East 4th Street, Charlotte, NC 28202. | Mecklenburg County Stormwater Services Division, 2145 Suttle Avenue, Charlotte, NC 28208. | Jan. 9, 2025 | 370159
Mecklenburg (FEMA Docket No.: B-2472). | Town of Pineville (22-04-2871P). | The Honorable David Phillips, Mayor, Town of Pineville, P.O. Box 249, Pineville, NC 28134. | Mecklenburg County Stormwater Services Division, 2145 Suttle Avenue, Charlotte, NC 28208. | Jan. 9, 2025 | 370160
Union (FEMA Docket No.: B-2472). | City of Monroe (24-04-2810P). | The Honorable Robert Burns, Mayor, City of Monroe, 300 West Corwell Street, Monroe, NC 28112. | City Hall, 300 West Corwell Street, Monroe, NC 28112. | Jan. 28, 2025 | 370236
Wake (FEMA Docket No.: B-2472). | Town of Cary (23-04-4024P). | The Honorable Harold Weinbrecht, Mayor, Town of Cary, P.O. Box 8005, Cary, NC 27512. | Stormwater Services Division, 316 North Academy Street, Cary, NC 27513. | Jan. 24, 2025 | 370238
Texas:
Brazos (FEMA Docket No.: B-2467). | City of Bryan (23-06-2592P). | The Honorable Bobby Gutierrez, Mayor, City of Bryan, P.O. Box 1000, Bryan, TX 77805. | City Hall, 300 South Texas Avenue, Bryan, TX 77840. | Jan. 22, 2025 | 480082
Collin (FEMA Docket No.: B-2467). | City of McKinney (24-06-1316P). | The Honorable George Fuller, Mayor, City of McKinney, 222 North Tennessee Street, McKinney, TX 75069. | City Hall, 221 North Tennessee Street, McKinney, TX 75069. | Jan. 21, 2025 | 480135
Utah:
Cache (FEMA Docket No.: B-2460). | City of Logan (24-08-0055P). | The Honorable Holly H. Daines, Mayor, City of Logan, 290 North 100 West, Logan, UT 84321. | Public Works Department, 290 North 100 West, Logan, UT 84321. | Jan. 17, 2025 | 490019
Cache (FEMA Docket No.: B-2460). | City of Millville (24-08-0055P). | The Honorable David Hair, Mayor, City of Millville, P.O. Box 308, Millville, UT 84326. | City Hall, P.O. Box 308, Millville, UT 84326. | Jan. 17, 2025 | 490021
Cache (FEMA Docket No.: B-2460). | City of Nibley (24-08-0055P). | The Honorable Larry Jacobsen, Mayor, City of Nibley, 455 West 3200 South, Nibley, UT 84321. | Public Works Department, 455 West 3200 South, Nibley, UT 84321. | Jan. 17, 2025 | 490023
Cache (FEMA Docket No.: B-2460). | City of Providence (24-08-0055P). | The Honorable Kathleen Alder, Mayor, City of Providence, 164 North Gateway Drive, Providence, UT 84332. | City Hall, 164 North Gateway Drive, Providence, UT 84332. | Jan. 17, 2025 | 490226
Cache (FEMA Docket No.: B-2460). | City of River Heights (24-08-0055P). | The Honorable Jason Thompson, Mayor, City of River Heights, 520 South 500 East, River Heights, UT 84321. | City Hall, 520 South 500 East, River Heights, UT 84321. | Jan. 17, 2025 | 490240
Cache (FEMA Docket No.: B-2460). | Unincorporated areas of Cache County (24-08-0055P). | The Honorable David Zook, Cache County Executive, 199 North Main Street, Logan, UT 84321. | Public Works Department, 179 North Main Street, Suite 305, Logan, UT 84321. | Jan. 17, 2025 | 490012

[FR Doc. 2025-03891 Filed 3-11-25; 8:45 am]

BILLING CODE 9110-12-P